SOCIAL SECURITY ADMINISTRATION

Privacy Act of 1974 as Amended; Computer Matching Program (Social Security Administration (SSA)/Internal Revenue Service (IRS)/Centers for Medicare Medicaid Services (CMS)) Match Number 1048

AGENCY: Social Security Administration (SSA).

ACTION: Notice of computer matching program.

SUMMARY: In accordance with the provisions of the Privacy Act, as amended, this notice announces a computer matching program that SSA plans to conduct with the IRS and CMS. CMS is the new name of the Health Care Financing Administration effective July 1, 2001.

DATES: SSA will file a report of the subject matching program with the Committee on Governmental Affairs of the Senate, the Committee on Government Reform and Oversight of the House of Representatives, and the Office of Information and Regulatory Affairs, Office of Management and Budget (OMB). The matching program will be effective as indicated below.

ADDRESSES: Interested parties may comment on this notice by either telefax to (410) 966-2935 or writing to the Acting Associate Commissioner, Office of Program Support, 2-Q-16 Operations Building, 6401 Security Boulevard, Baltimore, MD 21235. All comments received will be available for public inspection at this address.

FOR FURTHER INFORMATION CONTACT: The Acting Associate Commissioner for Program Support as shown above.

SUPPLEMENTARY INFORMATION:

A. General

The Computer Matching and Privacy Protection Act of 1988 (Public Law (Pub. L.) 100-503), amended the Privacy Act (5 U.S.C. 552a) by describing the manner in which computer matching involving Federal agencies could be performed and adding certain protections for individuals applying for and receiving Federal benefits. Section 7201 of the Omnibus Budget Reconciliation Act of 1990 (Pub. L. 101-508) further amended the Privacy Act regarding protections for such individuals.

The Privacy Act, as amended, regulates the use of computer matching by Federal agencies when records in a system of records are matched with other Federal, State, or local government records. It requires Federal agencies involved in computer matching programs to:

(1) Negotiate written agreements with the other agency or agencies participating in the matching programs;

(2) Obtain the approval of the matching agreement by the Data Integrity Boards (DIB) of the participating federal agencies;

(3) Furnish detailed reports about matching programs to Congress and OMB;

(4) Notify applicants and beneficiaries that their records are subject to matching; and

(5) Verify match findings before reducing, suspending, terminating, or denying an individual's benefits or payments.

B. SSA Computer Matches Subject to the Privacy Act

We have taken action to ensure that all SSA computer matching programs comply with the requirements of the Privacy Act, as amended.

Dated: July 17, 2001.
Glenna Donnelly,
Acting Deputy Commissioner for Disability and Income Security Programs.

Notice of Computer Matching Program, Internal Revenue Service (IRS) and Centers of Medicare and Medicaid Services (CMS) with the Social Security Administration (SSA).

A. Participating Agencies

SSA, IRS and CMS.

B. Purpose of the Matching Program

The purpose of this matching program is to establish conditions under which IRS agrees to disclose return information relating to taxpayer identity information to SSA. SSA agrees to disclose IRS return information relating to employer identity, commingled with taxpayer identity information, to CMS.

These disclosures will provide CMS with information for use in determining the extent to which any Medicare beneficiary is covered under any Group Health Plan (GHP).

C. Authority for Conducting the Matching Program

Section 1862(b)(5) of the Social Security Act, (42 U.S.C. 1395y(b)(5)), Section 6103(l)(12) of the Internal Revenue Code, (26 U.S.C 6103(1)(12)), and the Privacy Act, (5 U.S.C. 552a) as amended.

D. Categories of Records and Individuals Covered by the Matching Program

1. IRS

IRS will disclose taxpayer identity information from the Individual Master File (IMF), Treas/IRS 24.030, published at 63 FR 69854 (12/17/98). The IRS component responsible for the disclosure of the return information is the Office of Government Liaison and Disclosure.

2. SSA

SSA will extract identifying information of Medicare beneficiaries from the Master Beneficiary Record (MBR), SSA/OSR 09-60-0090, published at 65 FR 46997 (08/01/00). SSA will validate the taxpayer SSN by matching information from the IMF against the Master Files of Social Security Number Holders, (NUMIDENT), SSA/OSR 09-60-0058, published at 63 FR 14165 (03/24/98). SSA will extract employer identity information from the Earnings Recording and Self-Employment Income System, SSA/0SR 09-60-0059, referred to as the Master Earnings File (MEF), published at 62 FR 11939 (03/13/97). The SSA component responsible for the disclosure of the return information is the Office of Systems Requirements (OSR).

3. CMS

a. CMS will utilize a database, System Number 09-70-4001, published at 57 FR 60818 (12/22/92), of the GHP information received from employers containing verified instances of employment and GHP coverage for Medicare beneficiaries and Medicare eligible spouses identified from the IMF and MEF extracts. CMS will match the GHP information against the Carrier Medicare Claims Records, System Number 09-70-0501, published at 59 FR 37243-02 (7/21/94), maintained at the CMS Common Working File (CWF), System Number 09-70-0526, published at 53 FR 52792 (12/29/88).

b. CMS will match GHP information against the Carrier Medicare Claims Records, System Number 09-70-0501, published at 59 FR 37243-02 (7/21/94), maintained at the CMS Common Working File (CWF), System Number 09-70-0526, published at 53 FR 52792 (12/29/88), which is the repository data base for current MSP information. This file contains information or records needed to properly process and pay medical insurance benefits to, or on behalf of, entitled beneficiaries who have submitted claims for Supplementary Medical Insurance Benefits (Medicare Part B). The file is accessed when a claim is submitted for payment.

c. CMS will match GHP information against the Intermediary Claims Records, System Number 09-70-0503, published at 59 FR 37243-02 (7/21/94), maintained at the CWF. This file contains information or records needed to properly process and pay Medicare benefits to, or on behalf of, eligible individuals. The file is accessed when a claim is submitted for payment.

d. CMS will match GHP information against the National Claims History (NCH), which is contained in the National Claims History File, Privacy Act System, HHS, CMS, BDMS 09-70-0005 published at 59 FR 19181 (4/22/94), maintained at CMS Data Center (HDC), located in Baltimore, Maryland. NCH contains records needed to facilitate obtaining Medicare utilization review data that can be used to study the operation and effectiveness of the Medicare program.

e. The CMS component responsible for receipt and verification of the return information is the Office of Information Services (CMS/OIS).

E. Inclusive Dates of the Match

The matching program shall become effective no sooner than 40 days after notice for the program is sent to Congress and OMB, or 30 days after publication of this notice in the Federal Register, whichever date is later. The matching program will continue for 18 months from the effective date and may be extended for an additional 12 months thereafter, if certain conditions are met.

[FR Doc. 01-18586 Filed 7-23-01; 8:45 am]

BILLING CODE 4191-02-U